SMALL BUSINESS ADMINISTRATION

Region 1—Maine District Advisory Council; Public Meeting

The U.S. Small Business Administration Region 1 Advisory Council, located in the geographical area of Augusta, Maine will hold a public meeting at 10 a.m. April 8, 2003 at 68 Sewall Street, Room 510, Augusta, Maine to discuss such matters as may be presented by members, staff of the U.S. Small Business Administration, or others present.

Anyone wishing to make an oral presentation to the Board must contact Mary McAleney, District Director, U.S. Small Business Administration, 68 Sewall Street, Room 512, Augusta, Maine 04330, by e-mail or fax at mary.mcaleney.@sba.gov or (207) 622-8277. Fax no later than Friday, March 14, 2003. For more information please contact Mary McAleney at (207) 622-8386.

Candace Stoltz,
Director Advisory Councils.

[FR Doc. 03-5526 Filed 3-7-03; 8:45 am]

BILLING CODE 8025-01-P